DEPARTMENT OF ENERGY

Federal Energy Regulatory Commission

Combined Notice of Filings #1

Take notice that the Commission received the following electric corporate filings:

Docket Numbers: EC20-22-000.

Applicants: TWE Bowman Solar Project, LLC, PGR Lessee L, LLC.

Description: Application for Authorization Under Section 203 of the Federal Power Act, et al. of TWE Bowman Solar Project, LLC, et al.

Filed Date: 12/9/19.

Accession Number: 20191209-5021.

Comments Due: 5 p.m. ET 12/30/19.

Take notice that the Commission received the following electric rate filings:

Docket Numbers: ER20-366-000.

Applicants: Genbright LLC.

Description: Proposed Form of Non-Disclosure Certificate of Genbright, LLC.

Filed Date: 12/6/19.

Accession Number: 20191206-5128.

Comments Due: 5 p.m. ET 12/13/19.

Docket Numbers: ER20-539-000.

Applicants: East Fork Wind Project, LLC.

Description: Baseline eTariff Filing: Application for Market-Based Rate Authorization, Request for Related Waivers to be effective 1/15/2020.

Filed Date: 12/6/19.

Accession Number: 20191206-5185.

Comments Due: 5 p.m. ET 12/27/19.

Docket Numbers: ER20-540-000.

Applicants: Vineland Energy LLC.

Description: Tariff Cancellation: Vineland Energy LLC, Notice of Cancellation of Market-Based Rate Tariff to be effective 12/9/2019.

Filed Date: 12/6/19.

Accession Number: 20191206-5188.

Comments Due: 5 p.m. ET 12/27/19.

Docket Numbers: ER20-541-000.

Applicants: Pacific Gas and Electric Company.

Description: § 205(d) Rate Filing: Transmission Access Charge Balancing Account Adjustment (TACBAA) 2020 to be effective 3/1/2020.

Filed Date: 12/6/19.

Accession Number: 20191206-5192.

Comments Due: 5 p.m. ET 12/27/19.

Docket Numbers: ER20-542-000.

Applicants: Southwest Power Pool, Inc.

Description: § 205(d) Rate Filing: 3616 Iron Star Wind Project and ITC Great Plains E&P Agr to be effective 2/7/2020.

Filed Date: 12/9/19.

Accession Number: 20191209-5000.

Comments Due: 5 p.m. ET 12/30/19.

Docket Numbers: ER20-543-000.

Applicants: PJM Interconnection, L.L.C.

Description: Tariff Cancellation: Notice of Cancellation of ISA, SA No. 3476, Queue Nos. R11/Z2-109/AC1-029 to be effective 11/27/2019.

Filed Date: 12/9/19.

Accession Number: 20191209-5030.

Comments Due: 5 p.m. ET 12/30/19.

Docket Numbers: ER20-544-000.

Applicants: Midcontinent Independent System Operator, Inc., Ameren Illinois Company.

Description: § 205(d) Rate Filing: 2019-12-09_Rate Schedule 55 Ameren-Prairie Power JPZ Revenue Allocation to be effective 1/1/2020.

Filed Date: 12/9/19.

Accession Number: 20191209-5057.

Comments Due: 5 p.m. ET 12/30/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 9, 2019.
Nathaniel J. Davis, Sr.,
Deputy Secretary.

[FR Doc. 2019-27083 Filed 12-16-19; 8:45 am]

BILLING CODE 6717-01-P